DEPARTMENT OF TRANSPORTATION

Federal Aviation Administration

Agency Information Collection Activities: Requests for Comments; Clearance of Reinstated Approval of Information Collection: Flight Simulation Device Initial and Continuing Qualification and Use

AGENCY: Federal Aviation Administration (FAA), DOT.

ACTION: Notice and request for comments.

SUMMARY: In accordance with the Paperwork Reduction Act of 1995, FAA invites public comments about our intention to request the Office of Management and Budget (OMB) approval to renew an information collection. This request for clearance reflects requirements necessary under regulations to ensure safety-of-flight by ensuring that complete and adequate training, testing, checking, and experience is obtained and maintained by those who operate under regulation and use flight simulation in lieu of aircraft for these functions. The Federal Register Notice with a 60-day comment period soliciting comments on the following collection of information was published on November 30, 2017.

DATES: Written comments should be submitted by November 8, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0680.

Title: Flight Simulation Device Initial and Continuing Qualification and Use.

Form Numbers: (Pending) Forms T001A, T002, T004, T011, T011-FD2, T012, T023, T024, T025.

Type of Review: This is a reinstatement of an information collection.

Background: This information collection requires sponsors of flight simulation training devices (FSTD) to systematically plan for and implement the requirements of part 60 and the associated Qualification Performance Standard (QPS). Sponsors have been sub-grouped into small, medium, and large based on the number of training centers. A sponsor will be guided through the administrative requirements by the local principal operations inspector or training center program manager and by representatives of the National Simulator Program staff regarding any FSTD for which the sponsor applicant seeks qualification.

The FAA has determined this information collection is necessary to amend the Qualification Performance Standards for FSTDs for the primary purpose of improving existing technical standards and introducing new technical standards for full stall and stick pusher maneuvers, upset recognition and recovery maneuvers, maneuvers conducted in airborne icing conditions, takeoff and landing maneuvers in gusting crosswinds, and bounced landing recovery maneuvers. These new and improved technical standards are intended to fully define FSTD fidelity requirements for conducting new flight training tasks introduced through changes to the air carrier training requirements. This information collection also addresses updated FSTD technical standards to better align with the current international FSTD evaluation guidance and introduces a new FSTD level that expands the number of qualified flight training tasks in a fixed base flight training device. This information collection will help ensure that the training and testing environment is accurate and realistic, in accordance with regulations. The specific regulations are Title 14 CFR part 61, part 63, part 91, part 121, part 135, part 141, and part 142.

Respondents: The estimate is based on a current sponsor count of 68 that changes on a continuous basis.

Frequency: Annual.

Estimated Average Burden per Response: 44 minutes.

Estimated Total Annual Burden: 93,385 hours.

Issued in Fort Worth, TX, on September 4, 2018.
Barbara L. Hall,
FAA Information Collection Clearance Officer, Performance, Policy, and Records Management Branch, ASP-110.

[FR Doc. 2018-21885 Filed 10-5-18; 8:45 am]

BILLING CODE 4910-13-P